SECURITIES AND EXCHANGE COMMISSION

[OMB Control No. 3235-0121]

Proposed Collection; Comment Request; Extension: Form 18—Registration Form

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form 18 (17 CFR 249.218) is a registration form that can be used by a foreign government or political subdivision thereof to register securities for listing on a U.S. exchange. The information collected is intended to provide U.S. investors in relevant foreign government securities with material information concerning those securities and the foreign government registrant so that investors can make informed investment decisions.

We estimate that Form 18 takes approximately 8 hours per response and that approximately 5 responses are made annually. We derived our burden hour estimate by estimating the average number of hours it would take a foreign government or political subdivision thereof to compile the necessary information and data, prepare and review the disclosure, file documents, and retain records. We estimate that 100% of the burden is carried out internally by the foreign government or political subdivision thereof. Based on our estimates, we calculate the total reporting burden to be 40 hours annually ((8 hours per response × 100%) × 5 responses annually).

Written comments are invited on: (a) whether this collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology. Consideration will be given to comments and suggestions submitted in writing within 60 days of this publication by June 9, 2025.

An agency may not conduct or sponsor, and a person is not required to respond to, a collection of information unless it displays a currently valid OMB control number.

Please direct your written comment to Austin Gerig, Director/Chief Data Officer, Securities and Exchange Commission, c/o Tanya Ruttenberg, 100 F Street NE, Washington, DC 20549 or send an email to: PaperworkReductionAct@sec.gov.

Dated: April 2, 2025.
Sherry R. Haywood,
Assistant Secretary.

[FR Doc. 2025-05989 Filed 4-7-25; 8:45 am]

BILLING CODE 8011-01-P